INTERNATIONAL TRADE COMMISSION

[Investigation No. 731-TA-709 (Third Review)]

Certain Seamless Carbon and Alloy Steel; Standard, Line, and Pressure Pipe From Germany

Determination

On the basis of the record ¹ developed in the subject five-year review, the United States International Trade Commission (Commission) determines, pursuant to section 751(c) of the Tariff Act of 1930 (19 U.S.C. 1675(c)), that revocation of the antidumping duty order on certain seamless carbon and alloy steel standard, line, and pressure pipe from Germany would be likely to lead to continuation or recurrence of material injury to an industry in the United States within a reasonably foreseeable time.²

¹ The record is defined in sec. 207.2(f) of the Commission's Rules of Practice and Procedure (19 CFR 207.2(f)).

² Commissioner Deanna Tanner Okun did not participate in this review. Commissioner Daniel R. Pearson did not vote in this review.

Background

The Commission instituted this review on April 2, 2012 (77 FR 19711) and determined on July 6, 2012, that it would conduct an expedited review (77 FR 42763, July 20, 2012).

The Commission transmitted its determination in this review to the Secretary of Commerce on August 30, 2012. The views of the Commission are contained in USITC Publication 4348 (August 2012), entitled Certain Seamless Carbon and Alloy Steel Standard, Line, and Pressure Pipe from Germany: Investigation No. 731-TA-709 (Third Review).

By order of the Commission.
Issued: August 31, 2012.
Lisa R. Barton,
Acting Secretary to the Commission.

[FR Doc. 2012-21923 Filed 9-5-12; 8:45 am]

BILLING CODE 7020-02-P